FEDERAL COMMUNICATIONS COMMISSION

47 CFR Part 27

[WT Docket No. 18-120; Report No. 3135; FRS 16304]

Petitions for Reconsideration of Action in Proceeding

AGENCY: Federal Communications Commission.

ACTION: Petition for Reconsideration.

SUMMARY: Petitions for Reconsideration (Petitions) have been filed in the Commission's proceeding listed below by Kevin J. Allis, on behalf of National Congress of American Indians, Burt Q.C. Lum, on behalf of The Hawaii Broadband Initiative and Keith Krueger, et al., on behalf of the Schools, Health & Libraries Broadband Coalition, Consortium for School Networking, State Educational Technology Directors Association, American Library Association, Nation Digital Inclusion Alliance, the Nebraska Department of Education, Utah Education and Telehealth Network, Council of Chief State School Officers, A Better Wireless, and Access Humboldt.

DATES: Oppositions to the Petitions must be filed on or before January 2, 2020. Replies to an opposition must be filed on or before January 13, 2020.

ADDRESSES: Federal Communications Commission, 445 12th Street SW, Washington, DC 20554.

FOR FURTHER INFORMATION CONTACT: John Schauble, Deputy Chief, Broadband Division, Wireless Telecommunications Bureau at (202) 418-0797.

SUPPLEMENTARY INFORMATION: This is a summary of the Commission's document, Report No. 3135, released December 05, 2019. The full text of the Petitions are available for viewing and copying at the FCC Reference Information Center, 445 12th Street SW, Room CY-A257, Washington, DC 20554. Petitions also may be accessed online via the Commission's Electronic Comment Filing System at: http://apps.fcc.gov/ecfs/. The Commission will not send a Congressional Review Act (CRA) submission to Congress or the Government Accountability Office pursuant to the CRA, 5 U.S.C. because no rules are being adopted by the Commission.

Subject: Transforming the 2.5 GHz Band, FCC 19-62, published at 84 FR 57343, published October 25, 2019, correction published at 84 FR 64209, November 21, 2019, in WT Docket No. 18-120.

Number of Petitions Filed: 3.

Federal Communications Commission.
Marlene Dortch,
Secretary, Office of the Secretary.

[FR Doc. 2019-27240 Filed 12-17-19; 8:45 am]

BILLING CODE 6712-01-P